DEPARTMENT OF HEALTH AND HUMAN SERVICES

Centers for Disease Control and Prevention

[60Day-05BS]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project: Human Behavior in Fire Study—New—National Center for Injury Prevention and Control (NCIPC), Centers for Disease Control and Prevention (CDC).

Background and Brief Description: This project will characterize the behaviors of individuals who were involved in a residential fire, and determine which behaviors are associated with injuries sustained in the fire incident. Behaviors related to fire escape planning and practice, smoke alarm installation and maintenance, physical and visual access to escape routes, etc., will be studied. In the United States each year, there are approximately 400,000 residential fires, with 14,000 non-fatal and 3,000 fatal civilian injuries. In line with Healthy People 2010 objectives, NCIPC works to reduce and eliminate non-fatal and fatal injuries from residential fires. In order to develop effective fire-related injury prevention programs, a better understanding of human behavior in fires is needed.

The design of this study will be a matched-pair, case-control study. Cases will be defined as individuals who were injured in a residential fire and controls will be individuals who were involved in a residential fire, but were not injured. Fire incidents involving a fatality will be excluded from this study. Local fire departments throughout the United States will submit fire incident reports to study personnel, who will select incidents based on geographical location. Further screening for eligibility will be done using a brief telephone interview. For those selected, interviewers will conduct in-depth, computer-assisted face-to-face interviews with participants. The sequence of events surrounding the fire and the behaviors of interviewees will be ascertained using the Behavioral Sequence Interview Technique. In addition, information on the nature of injuries sustained; characteristics of the fire and home structure; other occupants present; previous fire experiences; safety training; and demographics on the persons interviewed will be collected. The only cost to the respondents is the time involved to complete the screening and/or face-to-face interviews.

Estimate of Annualized Burden Table:

Respondents | Number of respondents | Number of responses per respondent | Average burden per response (in hours) | Total burden (in hours)
Adults—Screened | 1,250 | 1 | 15/60 | 313
Adults—Cases and Controls | 1,000 | 1 | 1 | 1,000
Total |  |  |  | 1,313

Dated: March 21, 2005.
Betsey Dunaway,
Acting Reports Clearance Officer, Centers for Disease Control and Prevention.

[FR Doc. 05-6031 Filed 3-25-05; 8:45 am]

BILLING CODE 4163-18-P